DEPARTMENT OF LABOR

Employment and Training Administration

[TA-W-63,805]

International Paper Company, Pensacola Mill, Cantonment, FL; Notice of Negative Determination on Reconsideration

On December 3, 2008, the Department issued an Affirmative Determination Regarding Application for Reconsideration for the workers and former workers of the subject firm. The notice was published in the Federal Register on December 15, 2008 (73 FR 76057).

The initial investigation, which was filed on behalf of workers at International Paper Company, Pensacola Mill, Cantonment, Florida engaged in the production of linerboard and fluff pulp, was denied because criteria (1)(2)(A)(I.B) and (1)(2)(A)(II.A) had not been met. The subject firm did not separate or threaten to separate a significant number or proportion of workers as required by Section 222 of the Trade Act of 1974.

In the request for reconsideration, the petitioner stated that workers of the subject firm used to produce uncoated freesheet (copy paper) products. The petitioner also stated that in 2006 the subject firm discontinued production of uncoated freesheet paper and was certified eligible for Trade Adjustment Assistance (TAA). The petitioner requested an extension of TAA certification for workers of the subject firm who lost employment or would be terminated from the subject facility after the expiration date of the previous certification, based on the same evidence revealed in the investigation in 2006. The petitioner seems to allege that because the subject firm was previously certified eligible for TAA, the workers of the subject firm should be granted another TAA certification.

The investigation revealed that the workers of the subject firm were certified eligible for TAA (TA-W-59,338) on May 8, 2006 based on increased imports of uncoated freesheet paper. The investigation also revealed that production of uncoated freesheet paper at the subject firm ceased in May 2007. At that time, the subject facility was converted to manufacture linerboard and fluff pulp.

When assessing eligibility for TAA, the Department exclusively considers employment, sales, production and import impact during the relevant period (from one year prior to the date of the petition). Therefore, events occurring prior to July 31, 2007 are outside of the relevant period and are not relevant in this investigation as established by the petition date of July 31, 2008. The investigation revealed that there was no production of uncoated freesheet paper at the subject facility during the relevant period.

The petitioner also provided additional information regarding employment and layoffs at the subject firm.

Upon further review of the employment data provided by the company official of the subject firm, it was determined that employment at the subject firm declined during the relevant period.

In order to establish import impact and whether imports contributed importantly to worker separations, the Department must consider imports that are like or directly competitive with those produced at the subject firm (linerboard and fluff pulp) during the relevant period. The “contributed importantly” test is generally demonstrated through a survey of customers of the workers' firm regarding their import purchases.

On reconsideration the Department conducted a survey of the subject firm's domestic customers regarding their purchases of linerboard and fluff pulp during 2006, 2007, January through July, 2007 and January through July, 2008. The survey revealed that the customers did not increase their imports of linerboard and fluff pulp while decreasing purchases from the subject firm during the relevant period.

Furthermore, as stated in the initial investigation sales and production of linerboard and fluff pulp did not decline during the relevant period through July 2008.

If conditions have changed since July 2008, the company is encouraged to file a new petition on behalf of the worker group which will encompass an investigative period that will include these changing conditions.

Conclusion

After reconsideration, I affirm the original notice of negative determination of eligibility to apply for worker adjustment assistance for workers and former workers of International Paper Company, Pensacola Mill, Cantonment, Florida.

Signed at Washington, DC, this 18th day of February 2009.
Elliott S. Kushner,
Certifying Officer, Division of Trade Adjustment Assistance.

[FR Doc. E9-4394 Filed 3-2-09; 8:45 am]

BILLING CODE 4510-FN-P